DEPARTMENT OF COMMERCE

International Trade Administration

[A-588-046]

Polychloroprene Rubber From Japan: Notice of Initiation and Preliminary Results of Changed Circumstances Review, and Intent To Revoke Antidumping Duty Finding in Part

AGENCY: Import Administration, International Trade Administration, Department of Commerce.

SUMMARY: On January 23, 2008, the Department of Commerce (the Department) received a request on behalf of the petitioner, DuPont Performance Elastomers L.L.C. (DPE) ¹ for a changed circumstances review and a request to revoke, in part, the antidumping duty (AD) finding on certain polychloroprene rubber products from Japan.

¹ DPE is the sole petitioner in this antidumping proceeding. See Polychloroprene Rubber From Japan: Final Results of the Expedited Sunset Review of the Antidumping Finding, 69 FR 64276 (November 4, 2004).

EFFECTIVE DATE: March 11, 2008.

FOR FURTHER INFORMATION CONTACT: Douglas Kirby, AD/CVD Operations, Office 6, Import Administration, International Trade Administration, U.S. Department of Commerce, 14th Street and Constitution Avenue, NW., Washington, DC 20230; telephone: (202) 482-3782.

SUPPLEMENTARY INFORMATION:

Background

On December 6, 1973, the Department of Treasury published in the Federal Register (38 FR 33593) the antidumping finding on polychloroprene rubber (PCR) from Japan. On January 23, 2008, DPE requested revocation in part of the AD finding with respect to solid polychloroprenes that are dipolymers of chloroprene and methacrylic acid having methacrylic acid comonomer content in the 1.0 percent to 5.0 percent range (this category does not include aqueous chloroprene/methacrylic acid dipolymer dispersion products or solvent solutions of chloroprene/methacrylic acid dipolymers). In its January 23, 2008 submission, DPE stated that it no longer has any interest in antidumping relief from imports of such PCR with respect to the subject merchandise defined in the “Scope of the Finding” section below. Interested parties are invited to comment on these preliminary results.

Scope of the Finding

Imports covered by this finding are shipments of polychloroprene rubber, an oil resistant synthetic rubber also known as polymerized chlorobutadiene or neoprene, currently classifiable under items 4002.42.00, 4002.49.00, 4003.00.00, 4462.15.21 and 4462.00.00 of the Harmonized Tariff Schedule of the United States (HTSUS). HTSUS item numbers are provided for convenience and customs purposes. The Department's written description of the scope remains dispositive.

Initiation and Preliminary Results of Changed Circumstances Review, and Intent To Revoke Antidumping Finding in Part

Pursuant to section 751(d)(1) of the Tariff Act of 1930, as amended (the Act), the Department may revoke, in whole or in part, an antidumping finding based on a review under section 751(b) of the Act (i.e., a changed circumstances review). Section 751(b)(1) of the Act requires a changed circumstances review to be conducted upon receipt of a request which shows changed circumstances sufficient to warrant a review. Pursuant to section 782(h)(2) of the Act and 19 CFR 351.222(g), the Department will conduct a changed circumstances review under 19 CFR 351.216 and may revoke an order (in whole or in part) if it determines that producers accounting for substantially all of the production of the domestic like product to which the order (or the part of the order to be revoked) pertains have expressed a lack of interest in the relief provided by the order, in whole or in part. In addition, in the event that the Department concludes that expedited action is warranted, 19 CFR 351.221(c)(3)(ii) permits the Department to combine the notices of initiation and preliminary results.

In this case, the Department finds that the information submitted by Petitioner provides sufficient evidence of changed circumstances to warrant a review. See 19 CFR 351.216(d). DPE is the sole petitioner and domestic producer of PCR, and therefore accounts for all of the production of the domestic like product to which the order pertains.² In addition, DPE affirms that it is no longer interested in the inclusion of the above products within the scope of the antidumping findings. See DPE's January 23, 2008 submission at page 2. Therefore, in accordance with sections 751(b)(1) and 751(d)(1) of the Act, and 19 CFR 351.216 and 351.222(g), and based on the information provided by DPE, the Department is initiating a changed circumstances review of PCR from Japan to determine whether partial revocation of the AD finding is warranted with respect to the aforementioned certain PCR products from Japan. Furthermore, in accordance with 19 CFR 351.221(c)(3)(ii), we have determined that expedited action is warranted. Our decision to expedite this review stems from the fact that the sole petitioner and domestic producer of the subject merchandise, DPE, has requested expedited action. Because we have concluded that expedited action is warranted, we are combining these notices of initiation and preliminary results.

² DuPont has been the sole U.S. producer of polychloroprene rubber since 1998, when Bayer Group closed its polychloroprene rubber plant in Houston, Texas. See Polychloroprene Rubber from Japan, Inv. No. AA-1921-129 (Second Review), U.S. ITC Pub. 3786, at 4-5 (June 2005).

Based on the expression of no interest by the sole domestic producer, the Department has preliminarily determined that producers accounting for substantially all of the production of the domestic like product have no further interest in the continued application of the AD finding on PCR that is subject to this request. See section 782(h)(2) of the Act. Therefore, we are notifying the public of our intent to revoke, in part, the AD finding as it relates to imports of certain PCR products from Japan.

Accordingly, the Department intends to amend the scope of the finding on PCR from Japan to read as follows: Imports covered by this review are shipments of polychloroprene rubber, an oil resistant synthetic rubber also known as polymerized chlorobutadiene or neoprene, currently classifiable under items 4002.42.00, 4002.49.00, 4003.00.00, 4462.15.21 and 4462.00.00 of the Harmonized Tariff Schedule of the United States (HTSUS). HTSUS item numbers are provided for convenience and customs purposes. The Department's written description of the scope remains dispositive.

In addition, the following type of polychloroprene rubber is excluded from the scope of the finding: solid polychloroprenes that are dipolymers of chloroprene and methacrylic acidhaving methacrylic acid comonomer content in the 1.0 percent to 5.0 percent range (this category does not include aqueous chloroprene/methacrylic acid diploymer dispersion products or solvent solutions of chloroprene/methacrylic acid dipolymers).

Public Comment

Interest parties are invited to comment on these preliminary results. All written comments shall be submitted in accordance with 19 CFR 351.303 and shall be served on all interested parties. Interested parties may submit case briefs and/or written comments no later than 30 days after the date of publication of this notice. See 19 CFR 351.309(c)(ii). Rebuttal briefs and rebuttals to written comments, which must be limited to issues raised in such briefs or comments, may be filed no later than 5 days after the time limit for filing the case brief. See 19 CFR 351.309(d). Parties who submit arguments are requested to submit with the argument (1) a statement of the issue, (2) a brief summary of the argument, and (3) a table of authorities. Also, any interested party may request a hearing within 30 days of publication of this notice. See 19 CFR 351.310(c). Any hearing, if requested, will be held 44 days after the date of publication of this notice, or the first working day thereafter. Persons interested in attending a hearing should contact the Department for the date and time of the hearing.

Consistent with section 351.216(e) of the Department's regulations, the Department will issue the final results of this changed circumstances review, including the results of its analysis of issues raised in any written comments, no later than 270 days the date on which this review was initiated, or within 45 days if all parties agree to our preliminary finding. See 19 CFR 351.216(e). If final partial revocation occurs, we will instruct U.S. Customs and Border Protection to end the suspension of liquidation for the merchandise covered by the revocation on the effective date of the notice of revocation and to release any cash deposit or bond. See 19 CFR 351.222(g)(4). The current requirement for a cash deposit of estimated AD duties on all subject merchandise will continue unless and until it is modified pursuant to the final results of this changed circumstances review.

This notice of initiation is in accordance with sections 751(b)(1) and 777 of the Act and 19 CFR 351.216, 351.221, and 351.222.

Dated: March 6, 2008.
David M. Spooner,
Assistant Secretary for Import Administration.

[FR Doc. 08-1003 Filed 3-10-08; 8:45 am]

BILLING CODE 3510-DS-M